DEPARTMENT OF COMMERCE

International Trade Administration

[A-570-893]

Certain Frozen Warmwater Shrimp from the People's Republic of China: Initiation of New Shipper Review

AGENCY: Import Administration, International Trade Administration, Department of Commerce.

EFFECTIVE DATE: March 23, 2006.

SUMMARY: The Department of Commerce (“Department”) has determined that a request to conduct a new shipper review of the antidumping duty order on frozen warmwater shrimp from the People's Republic of China (“PRC”), received on February 22, 2006, meets the statutory and regulatory requirements for initiation. Therefore, in accordance with 19 CFR 351.214(d), we are initiating a new shipper review for Hai Li Aquatic Co., Ltd. Zhao An, Fujian (also known as Haili Aquatic Co. Ltd. Zhaoan, Fujian) (“Hai Li”). The period of review (“POR”) for this new shipper review is July 16, 2004, through January 31, 2006.¹

¹ The antidumping duty order for certain frozen warmwater shrimp from PRC was published on February 1, 2005. See Notice of Amended Final Determination of Sales at Less Than Fair Value and Antidumping Duty Order: Certain Frozen Warmwater Shrimp From the People's Republic of China, 70 FR 5149 (February 1, 2005) (“PRC Shrimp Order”). Therefore, a request for a new shipper review based on the anniversary month, February, was due to the Department by the final day of February 2006. See 19 CFR 351.214(d)(1).

FOR FURTHER INFORMATION CONTACT: Christopher Riker or Scot Fullerton, AD/CVD Operations, Import Administration, Office 9, International Trade Administration, U.S. Department of Commerce, 14th Street and Constitution Avenue, NW, Washington, DC 20230; telephone: (202) 482-3441 or (202) 482-1386, respectively.

SUPPLEMENTARY INFORMATION:

Background

The notice announcing the antidumping duty order on certain frozen warmwater shrimp from the PRC was published on February 1, 2005. See PRC Shrimp Order. The Department received a timely request from Hai Li on February 22, 2006, pursuant to section 751(a)(2)(B) of the Tariff Act of 1930, as amended (“the Act”), and in accordance with 19 CFR 351.214(c), for a new shipper review of the antidumping duty order on frozen warmwater shrimp from the PRC.

Pursuant to section 751(a)(2)(B)(i)(I) of the Act and 19 CFR 351.214(b)(2)(I), Hai Li certified that it did not export frozen warmwater shrimp to the United States during the period of investigation (“POI”). In addition, pursuant to section 751(a)(2)(B)(i)(II) of the Act and 19 CFR 351.214(b)(2)(iii)(A), Hai Li certified that, since the initiation of the investigation, it has never been affiliated with any Chinese exporter or producer who exported frozen warmwater shrimp to the United States during the POI, including those not individually examined during the investigation. As required by 19 CFR 351.214(b)(2)(iii)(B), Hai Li also certified that its export activities were not controlled by the central government of the PRC.

In addition to the certifications described above, pursuant to 19 CFR 351.214(b)(2)(iv), Hai Li submitted documentation establishing the following: (1) the date on which it first shipped frozen warmwater shrimp for export to the United States and the date on which the frozen warmwater shrimp was first entered, or withdrawn from warehouse, for consumption; (2) the volume of its first shipment (and certification of no subsequent shipments); and (3) the date of its first sale to an unaffiliated customer in the United States.

The Department conducted customs database queries to confirm that Hai Li's shipment of subject merchandise during the POR had entered the United States for consumption and had been suspended for antidumping duties.

Initiation of New Shipper Reviews

Pursuant to section 751(a)(2)(B) of the Act, and 19 CFR 351.214(d)(1),we find that the request made by Hai Li, a producer and exporter, meets the threshold requirements for the initiation of a new shipper review for the shipment of frozen warmwater shrimp from the PRC. See Memorandum to the File through James C. Doyle, Director, AD/CVD Operations, Office 9, from Christopher D. Riker, Program Manager, AD/CVD Operations, Office 9: New Shipper Initiation Checklist, dated March 17, 2006).

The POR for this new shipper review is July 16, 2004, through January 31, 2006. See 19 CFR 351.214(g)(1)(ii)(A). We intend to issue preliminary results of this review no later than 180 days from the date of initiation, and final results of this review no later than 270 days from the date of initiation. See section 751 (a)(2)(B)(iv) of the Act.

Because Hai Li has certified that it produced and exported the frozen and warmwater shrimp on which it based its request for a new shipper review, we will instruct U.S. Customs and Border Protection to allow, at the option of the importer, the posting of a bond or security in lieu of a cash deposit for each entry of frozen warmwater shimp that was both produced and exported by Hai Li until the completion of the new shipper review, pursuant to section 751(a)(2)(B)(iii) of the Act.

Interested parties needing access to proprietary information in this new shipper review should submit applications for disclosure under administrative protective orders in accordance with 19 CFR 351.305 and 351.306.

This initiation and notice are in accordance with section 751(a) of the Act and 19 CFR 351.214(d).

Dated: March 17, 2006.
Stephen J. Claeys,
Deputy Assistant Secretary for Import Administration.

[FR Doc. E6-4221 Filed 3-22-06; 8:45 am]

BILLING CODE 3510-DS-S